DEPARTMENT OF COMMERCE

National Oceanic and Atmospheric Administration

RIN 0648-XG81

Marine Mammals; File No. 1121-1900

AGENCY: National Marine Fisheries Service (NMFS), National Oceanic and Atmospheric Administration (NOAA), Commerce.

ACTION: Notice; receipt of application for amendment.

SUMMARY: Notice is hereby given that NOAA Fisheries Office of Science and Technology (Principal Investigator: Dr. Brandon Southall), Silver Spring, MD, has requested an amendment to Scientific Research Permit No. 1121-1900.

DATES: Written, telefaxed, or e-mail comments must be received on or before May 2, 2008.

ADDRESSES: The amendment request and related documents are available for review upon written request or by appointment in the following office(s):

Permits, Conservation and Education Division, Office of Protected Resources, NMFS, 1315 East-West Highway, Room 13705, Silver Spring, MD 20910; phone (301)713-2289; fax (301)427-2521; http://www.nmfs.noaa.gov/pr/permits/review.htm; and

Southeast Region, NMFS, 263 13th Avenue South, Saint Petersburg, Florida 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1121-1900.

FOR FURTHER INFORMATION CONTACT: Tammy Adams or Jolie Harrison, (301)713-2289.

SUPPLEMENTARY INFORMATION: The subject amendment to Permit No. 1121-1900 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 1121-1900, issued on August 13, 2007 (72 FR 46312), authorizes the permit holder to attach scientific instruments (digital archival recording tags) temporarily via suction cup to, photograph for identification, and expose to controlled levels of natural and anthropogenic underwater sounds, including signals simulating mid-frequency sonar, a variety of cetaceans in the Tongue of the Ocean (east of Andros Island, Bahamas). Whales are monitored visually and through passive acoustic monitoring (via an underwater hydrophone array), as well as through data from the tags, for responses to the sounds. Sloughed skin samples collected from the detached suction cup may be imported into the U.S. for analysis. The objective of the research is to collect underpinning data to evaluate the risk of mid-frequency sonars to beaked whales and other toothed whales by making direct measurements of behavioral responses to sound exposure. The permit is due to expire on January 1, 2009.

The permit holder requests authorization to extend the duration of the permit for three years beyond the original expiration date to allow for three additional field seasons, permit an increase in the number of marine mammals that may be harassed annually, and allow playbacks directed at small cetacean species not targeted previously (though previously permitted for indirect exposure to the playbacks). The amendment would not change the location of the research, the species of marine mammals that may be affected, or the level of take (level B harassment) permitted. The primary purpose of the proposed amendment is to allow additional field work and validation studies following the preliminary study conducted under the permit issued in 2007. Please refer to Table 1 of the supplemental environmental assessment (EA) for a list of species and comparison of take numbers currently authorized versus proposed for the amendment.

In compliance with the National Environmental Policy Act of 1969 (42 U.S.C. 4321 et seq.), a draft supplemental EA has been prepared to examine whether significant environmental impacts could result from issuance of the proposed amendment to the scientific research permit. The draft supplemental EA is available for review and comment simultaneous with the scientific research permit amendment application.

Concurrent with the publication of this notice in the Federal Register, NMFS is forwarding copies of this application to the Marine Mammal Commission and its Committee of Scientific Advisors.

Dated: March 27, 2008.
P. Michael Payne,
Chief, Permits, Conservation and Education Division, Office of Protected Resources, National Marine Fisheries Service.

[FR Doc. E8-6838 Filed 4-1-08; 8:45 am]

BILLING CODE 3510-22-S